DEPARTMENT OF THE INTERIOR

Fish and Wildlife Service

[FWS-R8-ES-2008-N0262; 81430-1112-0000-F2]

Proposed Low Effect Habitat Conservation for West Colton Terminal Temporary Ethanol Transloading Facility, City of Rialto, County of San Bernardino, CA

AGENCY: Fish and Wildlife Service, Interior.

ACTION: Notice of availability.

SUMMARY: West Colton Rail Terminal, LLC (applicant) has applied to the U.S. Fish and Wildlife Service (Service) for a 3-year incidental take permit for one covered species pursuant to section 10(a)(1)(B) of the Endangered Species Act of 1973, as amended (Act). The application addresses the potential for “take” of the endangered Delhi Sands flower-loving fly (Rhaphiomidas terminatus abdominalis, “DSF”) associated with construction of an ethanol unloading facility in the City of Rialto, San Bernardino County, California. A conservation program to mitigate for impacts of the project on the DSF would be implemented as described in the proposed West Colton Terminal Temporary Ethanol Transloading Facility Low-Effect Habitat Conservation Plan (HCP).

We are requesting comments on the permit application and on the preliminary determination that the proposed HCP qualifies as a “Low-Effect” Habitat Conservation Plan, eligible for a categorical exclusion under the National Environmental Policy Act (NEPA) of 1969, as amended. The basis for this determination is discussed in the Environmental Action Statement (EAS) and the associated Low Effect Screening Form, which are also available for public review.

DATES: Written comments should be received on or before November 19, 2008.

ADDRESSES: Comments should be addressed to the Field Supervisor, Fish and Wildlife Service, Carlsbad Fish and Wildlife Office, 6010 Hidden Valley Road, Suite 101, Carlsbad, California 92011. Written comments may be sent by facsimile to (760) 918-0638.

FOR FURTHER INFORMATION CONTACT: Ms. Karen Goebel, Assistant Field Supervisor, Carlsbad Fish and Wildlife Office (see ADDRESSES); telephone: (760) 431-9440.

SUPPLEMENTARY INFORMATION:

Availability of Documents

Individuals wishing copies of the proposed HCP and EAS should immediately contact the Service by telephone at (760) 431-9440 or by letter to the Carlsbad Fish and Wildlife Office. Copies of the proposed HCP and EAS also are available for public inspection during regular business hours at the Carlsbad Fish and Wildlife Office [see ADDRESSES].

Background

Section 9 of the Act and its implementing Federal regulations prohibit the take of animal species listed as endangered or threatened. Take is defined under the Act as to harass, harm, pursue, hunt, shoot, wound, kill, trap, capture or collect listed animal species, or attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The applicant (West Colton Rail Terminal, LLC or WCRT) is seeking a permit for take of the Delhi Sands flower-loving fly during the life of the permit. This species is referred to as the “DSF” in the proposed HCP. The DSF is restricted to the Delhi Soils formations within western Riverside and San Bernardino counties in California.

The applicant proposes to construct an ethanol unloading facility on 2.1 acres of land located between the north end of Sycamore Street and South Date Avenue in the City of Rialto, San Bernardino County, California. Approximately 0.21 acre of the project site is considered occupied by the DSF, and we anticipate that all DSF within the 0.21 acre area would be lost during project construction. The purpose of the project is to eliminate truck traffic from local highways currently resulting from trucking the ethanol from the City of Carson to the Colton area gasoline blending terminals. The project will eliminate the over 60-mile truck trip for approximately 40 trucks per day and reduce truck travel to a few thousand yards per load.

The applicant proposes to mitigate impacts to the DSF associated with the covered activities by fully implementing the HCP. The purpose of the proposed HCP's conservation program is to promote biological conservation of the DSF. WCRT proposes to mitigate impacts to DSF by contributing to a habitat management endowment for a conservation parcel known as the “Owl Property”, which is located northwest of the intersection of Riverside Avenue and Resource Drive in the City of Rialto. WCRT's contribution will fully fund an endowment for DSF habitat management in perpetuity.

The Proposed Action consists of the issuance of an incidental take permit and implementation of the proposed HCP, which includes measures to minimize and mitigate impacts of the project on DSF. Three alternatives to the taking of the listed species under the Proposed Action are considered in the proposed HCP. Under the Original Design Alternative, additional DSF habitat would be impacted at the project site to more efficiently meet the operational goals of the project. Under the Alternate Location Alternative, no DSF habitat would be impacted, but other environmental impacts would be unavoidable. Under the No Action Alternative, no DSF habitat would be impacted or conserved, and truck traffic would not be reduced.

The Service has made a preliminary determination that approval of the proposed HCP qualifies as a categorical exclusion under NEPA, as provided by the Department of the Interior Manual (516 DM8) and as a “low-effect” plan as defined by the Habitat Conservation Planning Handbook (November 1996). Determination of Low-effect Habitat Conservation Plans is based on the following three criteria: (1) Implementation of the proposed HCP would result in minor or negligible effects on federally listed, proposed, and candidate species and their habitats; (2) Implementation of the proposed HCP would result in minor or negligible effects on other environmental values or resources; and (3) Impacts of the proposed HCP, considered together with the impacts of other past, present and reasonably foreseeable similarly situated projects, would not result, over time, in cumulative effects to environmental values or resources which would be considered significant.

Based upon this preliminary determination, we do not intend to prepare further NEPA documentation. We will consider public comments in making the final determination on whether to prepare such additional documentation.

Before including your address, phone number, e-mail address, or other personal identifying information in your comment, you should be aware that your entire comment—including your personal identifying information—may be made publicly available at any time. While you can ask us in your comment to withhold your personal identifying information from public review, we cannot guarantee that we will be able to do so.

This notice is provided pursuant to section 10(c) of the Act. We will evaluate the permit application, the proposed HCP, and comments submitted thereon to determine whether the application meets the requirements of section 10(a) of the Act. If the requirements are met, we will issue a permit to West Colton Rail Terminal, LLC for the incidental take of the Delhi Sands flower-loving fly from construction of an ethanol unloading facility in the City of Rialto, San Bernardino County, California.

Dated: October 14, 2008.
Jim A. Bartel,
Field Supervisor, Carlsbad Fish and Wildlife Office, Carlsbad, California.

[FR Doc. E8-24883 Filed 10-17-08; 8:45 am]

BILLING CODE 4310-55-P